DEPARTMENT OF THE TREASURY

Internal Revenue Service

Open Meeting of the Area 6 Taxpayer Advocacy Panel (Including the States of Alaska, Arizona, Colorado, Hawaii, Idaho, Montana, New Mexico, Nevada, Oregon, Utah, Washington, and Wyoming)

ACTION: Notice.

SUMMARY: An open meeting of Area 6 Taxpayer Advocacy Panel will be conducted (via teleconference).

DATES: The meeting will be held Monday, November 18, 2002.

FOR FURTHER INFORMATION CONTACT: Anne Gruber at 1-888-912-1227 or 206-220-6095.

SUPPLEMENTARY INFORMATION: Notice is hereby given pursuant to section 10(a)(2) of the Federal Advisory Committee Act, 5 U.S.C. App. (1988) that an open meeting of the Taxpayer Advocacy Panel will be held Monday, November 18, 2002, from 2 p.m. to 4 p.m. as a teleconference.

The public is invited to send written comments. If you would like to have the TAP consider a written statement, please call 1-888-912-1227 or 206-220-6095, or write Anne Gruber, 915 2nd Ave, MS W406, Seattle, WA 98174. Due to limited conference time, notification of intent to attend the meeting must be made with Anne Gruber or Judi Nicholas. Ms. Nicholas can be reached at 1-888-912-1227 or 206-220-6096.

The Agenda will include the following: committee business, welcome to new members, and discussion of various ideas on hold from the summer.

Note: Last minute changes to the agenda are possible and could prevent effective advance notice.

Dated: October 30, 2002.
John J. Mannion,
Director, Program Planning & Quality.

[FR Doc. 02-29922 Filed 11-22-02; 8:45 am]

BILLING CODE 4830-01-P